DEPARTMENT OF STATE

[Public Notice: 12052]

Notice of Charter Renewal for the President's Emergency Plan for AIDS Relief (PEPFAR) Scientific Advisory Board

ACTION: Notice of charter renewal.

The Department of State has renewed The President's Emergency Plan for AIDS Relief (PEPFAR) Scientific Advisory Board, hereinafter referred to as “the Board.” The Board is established under the general authority of the Secretary of State and the Department of State (“the Department”) as set forth in title 22 of the United States Code, in particular section 2656 of that title, and consistent with the Federal Advisory Committee Act, as amended (5 U.S.C. chapter 10). The Board serves the U.S. Global AIDS Coordinator solely in an advisory capacity concerning scientific, implementation, and policy issues related to the global response to HIV/AIDS.

In accordance with Public Law 92-463, section 14, it has been formally determined to be in the public interest to continue the Charter of the PEPFAR Scientific Advisory Board for another two years. The Charter renewal was filed on February 27, 2023.

For further information about the Board, please contact Dr. Sara Klucking, Senior Adviser for Research and Science and Designated Federal Officer, Office of the U.S. Global AIDS Coordinator and Health Diplomacy, Washington, DC 20006, at KluckingSR@state.gov or (202) 615-4350.

Sara R. Klucking,
Senior Advisor for Research and Science, Designated Federal Officer, Office of the U.S. Global AIDS Coordinator and Health Diplomacy, Department of State.

[FR Doc. 2023-08317 Filed 4-19-23; 8:45 am]

BILLING CODE 4710-10-P